DEPARTMENT OF ENERGY

Federal Energy Regulatory Commission

[Docket No. AD16-24-000]

Winter 2018-2019 Operations and Market Performance in Regional Transmission Organizations and Independent System Operators; Notice of Technical Conference

Take notice that Federal Energy Regulatory Commission (Commission) staff will hold a technical conference, after the October 2018 Commission public meeting, to hear from the Regional Transmission Organizations (RTOs) and Independent System Operators (ISOs) ¹ on their efforts for ensuring reliable and economic system performance during the 2018-2019 winter season. The technical conference will take place on October 18, 2018 at the Commission's offices at 888 First Street, NE, Washington, DC beginning at 2:00 p.m. and ending at 3:30 p.m. (Eastern Time). Commission staff will lead the technical conference, and Commissioners may attend.

¹ The technical conference will include representatives from California Independent System Operator Corporation, ISO New England Inc., Midcontinent Independent System Operator, Inc., New York Independent System Operator, Inc., PJM Interconnection, L.L.C., and Southwest Power Pool, Inc.

Similar to past years' dialogue, we expect a robust discussion with the RTOs/ISOs on their key winter preparedness challenges and their current or proposed operational system enhancements and market changes to address those challenges. For RTOs/ISOs that are not winter-peaking, we look forward to hearing about their efforts to prepare for other seasons that may potentially challenge their region's reliability and markets.

If there is further information related to this conference, it will be provided in a supplemental notice.

All interested persons may attend the conference, and registration is not required. However, in-person attendees are encouraged to register on-line at: https://www.ferc.gov/whats-new/registration/106-186-18-form.asp. In-person attendees should allow time to pass through building security procedures before the 2:00 p.m. start time of the technical conference.

This technical conference will be transcribed and webcast. Transcripts will be available immediately for a fee from Ace Reporting (202-347-3700). A link to the webcast of this event will be available in the Commission Calendar of Events at www.ferc.gov. The Capitol Connection provides technical support for the webcasts and offers the option of listening to the conference via phone-bridge for a fee. For additional information, visit www.CapitolConnection.org or call 703-993-3100.

Commission conferences are accessible under section 508 of the Rehabilitation Act of 1973. For accessibility accommodations please send an email to accessibility@ferc.gov or call toll free 1-866-208-3372 (voice) or 202-208-8659 (TTY), or send a fax to 202-208-2106 with the required accommodations.

For more information about this technical conference, please contact David Rosner at 202-502-8479, david.rosner@ferc.gov, or Samin Peirovi at 202-502-8080, samin.peirovi@ferc.gov. For information related to logistics, please contact Sarah McKinley at 202-502-8368, sarah.mckinley@ferc.gov.

Dated: September 10, 2018.
Kimberly D. Bose,
Secretary.

[FR Doc. 2018-20080 Filed 9-14-18; 8:45 am]

BILLING CODE 6717-01-P